FEDERAL COMMUNICATIONS COMMISSION

[DA 04-3828]

Notice of Debarment; Schools and Libraries Universal Service Support Mechanism

AGENCY: Federal Communications Commission.

ACTION: Notice.

SUMMARY: The Enforcement Bureau (“Bureau”) debars Mr. John Dotson from the schools and libraries universal service support mechanism for a period of three years.

DATES: Debarment commences on the date Mr. Dotson receives the debarment letter or whichever date comes first, for a period of three years.

FOR FURTHER INFORMATION CONTACT: Diana Lee, Federal Communications Commission, Enforcement Bureau, Investigations and Hearings Division, Room 4-C330, 445 12th Street, SW., Washington, DC 20554. Diana Lee may be contacted by phone at (202) 418-1420 or e-mail at diana.lee@fcc.gov.

SUPPLEMENTARY INFORMATION: The Bureau has debarred Mr. John Dotson from the schools and libraries universal service support mechanism for a period of three years pursuant to 47 CFR 54.521 and 47 CFR 0.111(a)(14). The Commission previously suspended Mr. John Dotson from the schools and libraries mechanism, pending debarment proceedings. See 69 FR 62047, October 22, 2004. Attached is the debarment letter, Notice of Debarment; Schools and Libraries Universal Service Support Mechanism, DA 04-3828, which was mailed to Mr. John Dotson and released on December 6, 2004, in turn attached the suspension letter, Notice Of Suspension and of Proposed Debarment Proceedings, DA 04-3209. The complete text of the debarment letter with attachment 1 is available for public inspection and copying during regular business hours at the FCC Reference Information Center, Portals II, 445 12th Street, SW., Room CY-A257, Washington, DC 20554. In addition, the complete text of this letter may be retrieved from the FCC's Web site at www.fcc.gov. The text may also be purchased from the Commission's duplicating contractor, Qualex International, Portals II, 445 12th Street, SW., Room CY-B402, Washington, DC 20554, telephone 202-863-2893, facsimile 202-863-2898, or via e-mail qualexint@aol.com.

Federal Communications Commission.
William H. Davenport,
Chief, Investigations and Hearings Division, Enforcement Bureau.

The debarment letter, with attached suspension letter, follows:

VIA Certified Mail Return Receipt Requested

John Dotson, 2850 Webb Avenue, Apt. 4H, Bronx, NY 10468.

Re: Notice of Debarment, File No. EB-04-IH-0460.

Dear Mr. Dotson: Pursuant to section 54.521 of the rules of the Federal Communications Commission (the “Commission”), by this Notice of Debarment you are hereby debarred from the schools and libraries universal service support mechanism for a period of three years.¹

¹ See 47 CFR 0.111(a)(14), 54.521.

On October 7, 2004, the Enforcement Bureau (the “Bureau”) sent you a Notice of Suspension and Proposed Debarment (the “Notice of Suspension”).² That Notice of Suspension was published in the Federal Register on October 22, 2004.³ The Notice of Suspension suspended you from the schools and libraries universal service support mechanism ⁴ and described the basis for your proposed debarment,⁵ the applicable debarment procedures,⁶ and the effect of debarment.⁷

² Letter from William H. Davenport, Chief, Investigations and Hearings Division, Enforcement Bureau, Federal Communications Commission, to John Dotson, Notice of Suspension and Proposed Debarment, 19 FCC Rcd 19662 (2004).

³ 69 FR 62047 (Oct. 22, 2004).

⁴ See Notice of Suspension, 19 FCC Rcd at 19662-63 (imposing suspension pending the Bureau's final debarment determination) (Attachment 1).

⁵ See id., 18 FCC Rcd at 19663-64 (describing the basis for your proposed debarment).

⁶ See id., 18 FCC Rcd at 19664 (describing procedures to contest proposed debarment).

⁷ See id. (describing effect of proposed debarment).

Pursuant to the Commission's rules, any opposition to your suspension or its scope or to your proposed debarment or its scope had to be filed with the Commission no later than thirty (30) calendar days from the earlier date of your receipt of the Notice of Suspension or publication of the Notice of Suspension in the Federal Register.⁸ The Commission did not receive any such opposition.

⁸ See 47 CFR 54.521(e)(3) and (4). That date occurred no later than November 21, 2004. See supra note 3.

As discussed in the Notice of Suspension, on or about May 17, 2004, you were convicted of conspiracy to charge the E-Rate program 100 percent of the cost of E-Rate services provided through Connect2Interne Networks, Inc. (“Connect2”) to certain schools participating in the program, rather than requiring the schools to pay their designated ten percent of those costs, by: (1) Falsely representing to the schools that they could participate in the program at no cost to them, and that their share of the costs would be covered by outside sources donated to Connect2 for that purpose; (2) requesting school officials to write checks payable to Connect2 while agreeing either not to cash them or to return those monies to the schools or their designees; and (3) creating back-dated phony billing documents that give the false appearance that Connect2 had billed the schools for their costs.⁹ Such conduct constitutes the basis for your debarment, and your conviction falls within the categories of causes for debarment under section 54.521(c) of the Commission's rules.¹⁰ For the foregoing reasons, you are hereby debarred for a period of three years from the debarment date, i.e., the earlier date of your receipt of this Notice of Debarment or its publication date in the Federal Register.¹¹ Debarment excludes you, for the debarment period, from activities “associated with or related to the schools and libraries support mechanism,” including “the receipt of funds or discounted services through the schools and libraries support mechanism, or consulting with, assisting, or advising applicants or service providers regarding the schools and libraries support mechanism.” ¹²

⁹ Notice of Suspension, 19 FCC Rcd at 19663-64.

¹⁰ Notice of Suspension, 19 FCC Rcd at 19664; 47 CFR 54.521(c).

¹¹ See Notice of Suspension, 19 FCC Rcd at 19664.

¹² See 47 CFR 54.521(a)(1), 54.521(a)(5), 54.521(d); Notice of Suspension, 19 FCC Rcd at 19664.

Sincerely yours,

William H. Davenport,

Chief, Investigations and Hearings Division, Enforcement Bureau.

cc: Philip L. Weinstein, Federal Defender Division Legal Aid Society

Kristy Carroll, USAC (Via Email)

David M. Siegal, Assistant United States Attorney, Southern District of New York (Via Email)

Attachment 1

VIA Certified Mail Return Receipt Requested

John Dotson, 2850 Webb Avenue, Apt. 4H, Bronx, NY 10468.

Re: Notice of Suspension and of Proposed Debarment, File No. EB-04-IH-0460.

Dear Mr. Dotson: The Federal Communications Commission (“FCC” or “Commission”) has received notice of your conviction on or about May 17, 2004 pursuant to 18 U.S.C. 371 for conspiracy to defraud the United States.¹³ Specifically, you were convicted of conspiracy to violate the following laws of the United States: (1) 18 U.S.C. 287 (false, fictitious, and fraudulent claims); (2) 18 U.S.C. 1001 (false statements and entries generally); and (3) 18 U.S.C. 1343 (fraud by wire, radio, or television). Consequently, pursuant to 47 CFR 54.521, this letter constitutes official notice of your suspension from the schools and libraries universal service support mechanism, also known as the E-Rate program. In addition, the Enforcement Bureau (“Bureau”) hereby notifies you that we are commencing debarment proceedings against you.¹⁴

¹³ Any further reference in this letter to “your conviction” refers to your conviction on or about May 17, 2004 of this count based on your participation in a fraudulent scheme to obtain schools and libraries E-Rate program funds. See United States v. Dotson, Docket No. 1:03cr01113BSJ, Indictment (S.D.N.Y. filed September 17, 2003) (“Dotson Indictment”); United States v. Dotson, Docket No. 1:03cr01113BSJ, Judgment (S.D.N.Y. May 17, 2004) (“Dotson Judgment”).

¹⁴ 47 CFR 54.521; 47 CFR 0.111(a)(14) (delegating to the Enforcement Bureau authority to resolve universal service suspension and debarment proceedings pursuant to 47 CFR 54.521).

I. Notice of Suspension

Pursuant to section 54.521(a)(4) of the Commission's rules,¹⁵ your conviction requires the Bureau to suspend you from participating in any activities associated with or related to the schools and libraries fund mechanism, including the receipt of funds or discounted services through the schools and libraries fund mechanism, or consulting with, assisting, or advising applicants or service providers regarding the schools and libraries support mechanism.¹⁶ Your suspension becomes effective upon the earlier of your receipt of this letter or publication of notice in the Federal Register.¹⁷

¹⁵ 47 CFR 54.521(a)(4). See Schools and Libraries Universal Service Support Mechanism, Second Report and Order and Further Notice of Proposed Rulemaking, 18 FCC Rcd 9202, 9225-9227, ¶¶ 67-74 (2003) (“Second Report and Order”).

¹⁶ Second Report and Order, 18 FCC Rcd at 9225, ¶ 67; 47 U.S.C. 254; 47 CFR 54.502-54.503; 47 CFR 54.521(a)(4).

¹⁷ Second Report and Order, 18 FCC Rcd at 9226, ¶ 69; 47 CFR 54.521(e)(1).

Suspension is immediate pending the Bureau's final debarment determination. You may contest this suspension or the scope of this suspension by filing arguments in opposition to the suspension, with any relevant documentation. Your request must be received within 30 days after you receive this letter or after notice is published in the Federal Register, whichever comes first.¹⁸ Such requests, however, will not ordinarily be granted.¹⁹ The Bureau may reverse or limit the scope of suspension only upon a finding of extraordinary circumstances.²⁰ Absent extraordinary circumstances, the Bureau will decide any request for reversal or modification of suspension within 90 days of its receipt of such request.²¹

¹⁸ Second Report and Order, 18 FCC Rcd at 9226, ¶ 70; 47 CFR 54.521(e)(4).

¹⁹ Second Report and Order, 18 FCC Rcd at 9226, ¶ 70.

²⁰ 47 CFR 54.521(f).

²¹ See Second Report and Order, 18 FCC Rcd at 9226, ¶ 70; 47 CFR 54.521(e)(5), 54.521(f).

II. Notice of Proposed Debarment

A. Reasons for and Cause of Debarment

Commission rules establish procedures to prevent persons who have “defrauded the government or engaged in similar acts through activities associated with or related to the schools and libraries support mechanism” from receiving the benefits associated with that program.²² Based on your February 13, 2004 guilty plea, you were convicted on or about May 17, 2004 of conspiracy to defraud the Government by selling E-Rate services through Connect2Internet Networks, Inc. (“Connect2”) to certain schools participating in the E-Rate program but charging 100 percent of the costs to the program rather than requiring the schools to pay ten percent of the costs as required by the program rules.²³ In particular, you admitted to combining, conspiring and carrying out, with other co-conspirators, the following acts: (1) falsely representing to certain schools that they could participate in the E-Rate program at no cost to them, and that their share of the costs would be covered by outside sources donated to Connect2 for that purpose; (2) requesting certain school officials to write checks payable to Connect2 while agreeing either not to cash them or to return those monies to the schools or their designees; and (3) creating back-dated phony billing documents that give the false appearance that Connect2 had billed the schools for their costs.²⁴ These actions constitute the conduct or transactions upon which this debarment proceeding is based.²⁵ Moreover, your conviction on the basis of these acts falls within the categories of causes for debarment defined in section 54.521(c) of the Commission's rules.²⁶ Therefore, pursuant to section 54.521(a)(4) of the Commission's rules, your conviction requires the Bureau to commence debarment proceedings against you.

²² Second Report and Order, 18 FCC Rcd at 9225, ¶ 66.

²³ See Dotson Indictment at 2, 3; Dotson Judgment.

²⁴ Dotson Indictment at 4-5.

²⁵ Second Report and Order, 18 FCC Rcd at 9226, ¶ 70; 47 CFR 54.521(e)(2)(i).

²⁶ “Causes for suspension and debarment are the conviction of or civil judgment for attempt or commission of criminal fraud, theft, embezzlement, forgery, bribery, falsification or destruction of records, making false statements, receiving stolen property, making false claims, obstruction of justice and other fraud or criminal offense arising out of activities associated with or related to the schools and libraries support mechanism.” 47 CFR 54.521(c). Such activities “include the receipt of funds or discounted services through the schools and libraries support mechanism, or consulting with, assisting, or advising applicants or service providers regarding schools and libraries support mechanism described in this section ([47 CFR] § 54.500 et seq.).” 47 CFR 54.521(a)(1).

B. Debarment Procedures

You may contest debarment or the scope of the proposed debarment by filing arguments and any relevant documentation within 30 calendar days of the earlier of the receipt of this letter or of publication in the Federal Register.²⁷ Absent extraordinary circumstances, the Bureau will debar you.²⁸ Within 90 days of receipt of any opposition to your suspension and proposed debarment, the Bureau, in the absence of extraordinary circumstances, will provide you with notice of its decision to debar.²⁹ If the Bureau decides to debar you, its decision will become effective upon the earlier of your receipt of a debarment notice or publication of its decision in the Federal Register.³⁰

²⁷ See Second Report and Order, 18 FCC Rcd at 9226, ¶ 70; 47 CFR 54.521(e)(2)(i), 54.521(e)(3).

²⁸ Second Report and Order, 18 FCC Rcd at 9227, ¶ 74.

²⁹ See id., 18 FCC Rcd at 9226, ¶ 70; 47 CFR 54.521(e)(5).

³⁰ Id. The Commission may reverse a debarment, or may limit the scope or period of debarment upon a finding of extraordinary circumstances, following the filing of a petition by you or an interested party or upon motion by the Commission. 47 CFR 54.521(f).

C. Effect of Debarment

If and when your debarment becomes effective, you will be prohibited from participating in activities associated with or related to the schools and libraries support mechanism for at least three years from the date of debarment.³¹ The Bureau may, if necessary to protect the public interest, extend the debarment period.³²

³¹ Second Report and Order, 18 FCC Rcd at 9225, ¶ 67; 47 CFR 54.521(d), 54.521(g).

³² Id.

Please direct any responses to the following address:

Diana Lee, Esq., Federal Communications Commission, Enforcement Bureau, Investigations and Hearings Division, Room 4-A265, 445 12th Street, SW., Washington, DC 20554.

If you submit your response via hand-delivery or non-United States Postal Service delivery (e.g., Federal Express, DHL, etc.), please send your response to Ms. Lee at the following address:

Federal Communications Commission, 9300 East Hampton Drive, Capitol Heights, MD 20743.

If you have any questions, please contact Ms. Lee via mail, by telephone at (202) 418-1420 or by e-mail at diana.lee@fcc.gov. If Ms. Lee is unavailable, you may contact Eric Bash by telephone at (202) 418-1420 and by e-mail at eric.bash@fcc.gov.

Sincerely yours,

William H. Davenport,

Chief, Investigations and Hearings Division, Enforcement Bureau.

cc: Philip L. Weinstein, Federal Defender Division Legal Aid Society

Kristy Carroll, USAC (Via E-mail)

David M. Siegal, Assistant United States Attorney, Southern District of New York (Via E-mail)

[FR Doc. 04-27587 Filed 12-15-04; 8:45 am]

BILLING CODE 6712-01-U